ENVIRONMENTAL PROTECTION AGENCY

[FRL-8981-6]

Notice of a Regional Project Waiver of Section 1605 (Buy American) of the American Recovery and Reinvestment Act of 2009 (ARRA) to the Town of Newburyport, MA

AGENCY: Environmental Protection Agency (EPA).

ACTION: Notice.

SUMMARY: The EPA is hereby granting a waiver of the Buy America requirements of ARRA Section 1605 under the authority of Section 1605(b)(2) [manufactured goods are not produced in the United States in sufficient and reasonably available quantities and of a satisfactory quality] to the Town of Newburyport, Massachusetts (“Town”) for the purchase of a foreign manufactured rotary sludge dewatering press. This is a project specific waiver and only applies to the use of the specified product for the ARRA project being proposed. Any other ARRA recipient that wishes to use the same product must apply for a separate waiver based on project specific circumstances. The Town's proposed wastewater treatment facility improvements will include replacement of the existing belt filter presses for sludge generated at the plant. Based upon information submitted by the Town and its consultants, it was determined that two 4-channel rotary press sludge dewatering units, manufactured by Fournier Industries of Quebec, Canada, will meet the Town's design and performance specifications. The Acting Regional Administrator is making this determination based on the review and recommendations of the Municipal Assistance Unit. The Town, through its consulting engineers, has provided sufficient documentation to support their request. The Assistant Administrator of the Office of Administration and Resources Management has concurred on this decision to make an exception to Section 1605 of ARRA. This action permits the purchase of two 4-channel rotary press sludge dewatering units, manufactured by Fournier Industries, by the Town, as specified in its August 13, 2009 request, as part of the improvements to the wastewater treatment facility.

DATES: Effective Date: November 3, 2009.

FOR FURTHER INFORMATION CONTACT: Mark Spinale, Environmental Engineer, (617) 918-1547, or Katie Connors, Environmental Engineer, (617) 918-1658, Municipal Assistance Unit (CMU), Office of Ecosystem Protection (OEP), U.S. EPA, One Congress Street, CMU, Boston, MA 02114.

SUPPLEMENTARY INFORMATION: In accordance with ARRA Section 1605(c), the EPA hereby provides notice that it is granting a project waiver of the requirements of Sections 1605(b)(2) of Public Law 111-5, Buy American requirements, to the Town of Newburyport (“Town”), Massachusetts for the purchase of two 4-channel rotary press sludge dewatering units, manufactured by Fournier Industries of Quebec, Canada. It has been determined that this rotary press meets the Town's technical specifications for design and performance of a sludge dewatering unit as part of its wastewater treatment plant improvement project. Based on the information provided by the applicant, there are no domestically manufactured rotary sludge presses that at this time meet the specific design criteria established for this unit in the Town's project.

Section 1605 of the ARRA requires that none of the appropriated funds may be used for the construction, alteration, maintenance, or repair of a public building or public work unless all of the iron, steel, and manufactured goods used in the project is produced in the United States, or unless a waiver is provided to the recipient by the head of the appropriate agency, here the EPA. A waiver may be provided if EPA determines that (1) applying these requirements would be inconsistent with the public interest; (2) iron, steel, and the relevant manufactured goods are not produced in the United States in sufficient and reasonably available quantities and of a satisfactory quality; or (3) inclusion of iron, steel, and the relevant manufactured goods produced in the United States will increase the cost of the overall project by more than 25 percent.

The Town has requested a waiver from the Buy American Provision for the purchase of the foreign made rotary press sludge dewatering units as part of its wastewater treatment plant improvement project. The purchase of the new rotary sludge presses is intended to replace the existing belt filter presses at the wastewater treatment plant. The cost of the overall upgrade and replacement of the Town's wastewater treatment plant is estimated at $24.4 million, of which the cost of the two foreign made rotary sludge press units is $660,000.

The key selection criteria established by the Town and its consulting engineers for the sludge dewatering equipment include:

• Maintain dry cake solids between 18% and 20% by weight.

• Reduce odors and improve working conditions for operators by minimizing exposure to odorous and hazardous gases released from the sludge as well as exposure to bio-aerosols and pathogens. To achieve this goal, enclosed dewatering equipment is required.

• Allow for automatic adjustment for variation in feed solids concentrations and sludge mix ratios to provide consistent and optimum cake solids.

• Allow for unattended, automatic operation.

• Allow for backup capacity during periods of equipment failure and routine maintenance.

As part of the review of potentially viable sludge dewatering units, three technologies were evaluated by the Town and their consultants: (1) Belt filter press, (2) centrifuge system; and (3) screw/rotary press. Of the three technologies, it was determined that the rotary sludge press is the preferred technology because it ranked the highest in terms of meeting the key criteria highlighted above. In particular, the rotary press manufactured by Fournier Industries was identified as a technically and economically feasible unit meeting all of the selection criteria established as part of the design requirements. The Fournier Rotary Press is the preferred technology for installation at the Town's wastewater treatment plant because of the following advantages:

• High cake solids concentration.

• Low odor emissions due to the enclosed design.

• Provides for continuous operation and has the flexibility to increase capacity based on influent flow.

• Low maintenance due to the slow rotational speed, requiring minimal operator attention.

• Low energy requirements resulting in low operation and maintenance costs.

• Each channel is an independent self-contained modular unit which can be interchanged with other same model rotary presses.

• Low noise and vibration output due to low operations speeds.

• Compact size resulting in smaller building and room footprint requirements.

• Filtration elements within each channel are of a non-clogging design which does not require washwater during operation.

The technical memorandum prepared by the Town's consulting engineers indicates that of the other manufacturers that have similar dewatering units, only the Fournier Industries Rotary Press achieves the design criteria established for this project. The project specifications stipulate that the rotary press be capable of meeting the following criteria:

• Design Load: 9,000 dry lb/d.

• Design Load: 200 dry lb/h/channel.

• Inlet Percent Solids: 2-3.5%.

• Primary Sludge/WAS ratio: 70/30.

• Anticipated Dry Cake Solids: 18-28%.

Based on the review of available information, there is only one domestic manufacturer of similar rotary type presses for municipal sludge. However, this manufacturer only produces 1 and 2 channel rotary fan presses and currently cannot meet the design specifications required for this proposed project. One of the biggest design constraints is available space for the sludge dewatering equipment. The existing wastewater treatment plant is located near residential homes on an extremely small piece of land. The domestic alternative can only provide one or two channel rotary press units and would therefore require at least four 2-channel units to meet the specifications and match the production of two 4-channel Fournier Rotary Presses. Further, the use of additional domestic units will result in a larger footprint as opposed to the footprint of the two foreign made rotary presses. For these reasons, the Fournier Industries Rotary Sludge Presses are the only units at the present time that are acceptable in terms of meeting the design specifications and the space constraints of this project.

The April 28, 2009 EPA HQ Memorandum, “Implementation of Buy American provisions of Public Law 111-5, the `American Recovery and Reinvestment Act of 2009' ” (“Memorandum”), defines reasonably available quantity as “the quantity of iron, steel, or relevant manufactured good is available or will be available at the time needed and place needed, and in the proper form or specification as specified in the project plans and design.” The same Memorandum defines “satisfactory quality” as “the quality of steel, iron or manufactured good specified in the project plans and designs.”

The Town has requested a waiver of the ARRA Buy American provisions on the basis of unavailability of a U.S. manufactured product that will meet the design and performance criteria specified for the sludge dewatering unit. The evaluation of all of the submitted documentation by EPA's technical review team supports the Town's claim that at this time no domestic manufacturer can provide a suitable rotary sludge dewatering press which meets the specifications for this unit. Based on the information available, and to the best of our knowledge, there do not appear to be other rotary press sludge dewatering units manufactured in the United States that are available at this time to meet the Town's design specifications and performance requirements for this unit.

Furthermore, the purpose of the ARRA is to stimulate economic recovery by funding current infrastructure construction, not to delay projects that are already “shovel ready” by requiring SRF eligible recipients such as the Town to revise their design standards and specifications. The imposition of ARRA Buy American requirements in this case would result in unreasonable delay for this project. To delay this construction would directly conflict with a fundamental economic purpose of ARRA, which is to create or retain jobs.

The Municipal Assistance Unit (CMU) has reviewed this waiver request and has determined that the supporting documentation provided by the Town established both a proper basis to specify the particular good required and that this manufactured good was not available from a producer in the United States able to meet the design specifications for the proposed project. The information provided is sufficient to meet the following criteria listed under Section 1605(b) of the ARRA and in the April 28, 2009 Memorandum: Iron, steel, and the manufactured goods are not produced in the United States in sufficient and reasonably available quantities and of a satisfactory quality.

The March 31, 2009 Delegation of Authority Memorandum provided Regional Administrators with the authority to issue exceptions to Section 1605 of ARRA within the geographic boundaries of their respective regions and with respect to requests by individual grant recipients.

Having established both a proper basis to specify the particular good required for this project and that this manufactured good was not available from a producer in the United States, the Town is hereby granted a waiver from the Buy American requirements of Section 1605(a) of Public Law 111-5. This waiver permits use of ARRA funds for the purchase of the two specified Fournier Industries 4-channel rotary press sludge dewatering units documented in Town's waiver request submittal dated August 13, 2009 as part of its wastewater treatment plant improvements. This supplementary information constitutes the detailed written justification required by Section 1605(c) for waivers based on a finding under subsection (b).

Authority: Public Law 111-5, section 1605.

Dated: November 3, 2009.
Ira W. Leighton,
Acting Regional Administrator, EPA Region 1—New England.

[FR Doc. E9-27617 Filed 11-16-09; 8:45 am]

BILLING CODE 6560-50-P